DEPARTMENT OF AGRICULTURE

Animal and Plant Health Inspection Service

7 CFR Part 319

[Docket No. 02-106-1]

Importation of Fruits and Vegetables

Correction

In proposed rule document 03-31202 beginning on page 70448 in the issue of Thursday, December 18, 2003, make the following corrections:

§319.56-2t [Corrected]

1. On page 70458, in the table, in §319.56-2t (a), under the column heading, “Common name”, in the second entry, “German” should read “German chamomile”.

2. On the same page, in the same table, in the same section, under the column heading “Botanical name”, in the second entry, “Matricaria chamomile” should read “Matricaria”.

3. On page 70460, in the table, in the same section, under the column heading “ Plant part(s)”, in the 12th entry from the bottom, “Leaf and stem.” should read “Fruit.”.

4. On the same page, in the same table, in the same section, in the last column titled, “Additional restrictions (see paragraph (b) of this section.), 12 lines from the bottom, insert “ (b)(5)(ii) ”.

[FR Doc. C3-31202 Filed 2-4-04; 8:45 am]

BILLING CODE 1505-01-D

DEPARTMENT OF AGRICULTURE

Animal and Plant Health Inspection Service

7 CFR Part 319

[Docket No. 03-067-1]

Ports of Entry for Certain Plants and Plant Products

Correction

In rule document 03-31203 beginning on page 70421 in the issue of Thursday, December 18, 2003, make the following corrections:

§319.37- 14 [Corrected]

1. On page 70423, in the second column, in §319.37-14(b), under the heading List of Ports of Entry, under Georgia, “ Atlanta” should read “*Atlanta ”ÿ7Eÿ7E.

2. On the same page, in the same column, in the same section, under the same heading, under Guam, “Agana ” should read “*Agana ”.

[FR Doc. C3-31203 Filed 2-4-04; 8:45 am]

BILLING CODE 1505-01-D